FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995, the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before August 16, 2013. If you anticipate that you will be submitting PRA comments, but find it difficult to do so within the period of time allowed by this notice, you should advise the FCC contact listed below as soon as possible.

ADDRESSES: Submit your PRA questions to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-0599.

Title: Section 90.187, Trunking in the Bands Between 150 and 512 MHz; and Sections 90.425 and 90.647, Station Identification.

Form Number: N/A.

Type of Review: Revision of a currently approved collection.

Respondents: Business or other for-profit and state, local, or Tribal governments.

Number of Respondents and Responses: 6,679 respondents; 6,679 responses.

Estimated Time per Response: .25 hours to 3 hours.

Frequency of Response: On occasion reporting requirement.

Obligation to Respond: Required to obtain or retain benefits. Statutory authority for this collection of information is contained in 47 U.S.C. sections 154(i), 309(j) and 332 of the Communications Act of 1934, as amended.

Total Annual Burden: 8,231 hours.

Total Annual Cost: N/A.

Privacy Impact Assessment: No Impact(s).

Nature and Extent of Confidentiality: No questions of a confidential nature are asked.

Needs and Uses: The Commission is submitting this information collection to the Office of Management and Budget (OMB) for approval of a revision. The Commission is increasing the total annual burden by 7,974 hours due to a significant increase in the number of respondents/responses in collection. The revision is adding one additional rule section which is 90.187 to this information collection.

On April 18, 2013, the Commission in a Fifth Report and Order, FCC 13-52, adopted changes to 47 CFR 90.425 of the Commission's rules to allow Private Land Mobile Radio (PLMR) licensees in the bands between 150 and 512 MHz that are licensed on an exclusive basis to transmit station identification information in digital format, on the condition that the licensee will provide the Commission with information sufficient to decode the digital transmission to ascertain the call sign transmitted. However, this gives a new group of licensee stations (PLMRs) an option regarding the method of transmission of required call sign information; it modifies the existing burden, and slightly increases the cost burden—specifically the cost associated with providing the Commission sufficient information to decode the transmission—unless they choose the digital transmission option.

The information requested in this collection is used by the Commission's staff to enable the Commission to evaluate the accuracy of frequency coordination pursuant to its rule under 47 CFR 90.187, 90.425 and 90.647.

Federal Communications Commission.
Marlene H. Dortch,
Secretary, Office of the Secretary, Office of Managing Director.

[FR Doc. 2013-14281 Filed 6-14-13; 8:45 am]

BILLING CODE 6712-01-P